FEDERAL COMMUNICATIONS COMMISSION

47 CFR Part 73

[DA 06-2027; MB Docket No. 06-77; RM-11324; RM-11334]

Radio Broadcasting Services; Belle Meade, TN; Burkesville, KY; Edinburgh, IN; Goodlettsville, Greensburg, and Henderson, TN; Hodgenville, KY; Hope, IN; Horse Cave, KY; Lebanon, Lebanon Junction, Lewisport, Louisville, Lyndon, KY; Manchester and Millersville, TN; New Haven, Springfield and St. Matthews, KY; Tell City and Versailles, IN

AGENCY: Federal Communications Commission.

ACTION: Final rule.

SUMMARY: In response to a proposal filed jointly by Elizabethtown CBC, CBC of Marion County, Inc., Washington County CBC, Inc., Newberry Broadcasting, Inc. and Cumulus Licensing LLC and a counterproposal filed by CXR Holdings, LLC in this proceeding, this document granted multiple channel substitutions and changes of community of license in Indiana, Kentucky and Tennessee. Specifically, this document substitutes Channel 294C3 for Channel 294A at Belle Meade, Tennessee, reallots Channel 294C3 to Millersville, Tennessee, and modifies the license of Station WNFN to specify operation on Channel 294C3 at Millersville. In order to accommodate Channel 294C3 at Millersville, it substitutes Channel 293A for Channel 294A at Horse Cave, Kentucky, and modifies the license of Station WHHT to pecify operation on Channel 293A. It also substitutes Channel 297A for Channel 292A at Hodgenville, Kentucky, and modifies the license of Station WKMO to specify operation on Channel 297A, and substitutes Channel 257A for Channel 297A at Lebanon Junction, Kentucky, modifies the license of Station WTHX to specify operation on Channel 257A. In order to replace the loss of a sole local service at Belle Meade, it reallots Channel 246C2 from Goodlettsville, Tennessee, to Belle Meade and modifies the license of Station WRQQ to specify Belle Meade as the community of license. To avoid depriving Goodlettsville of its sole local service, it reallots Channel 221A from Hendersonville, Tennessee, to Goodlettsville, and modifies the license of Station WQQK to specify Goodlettsville as the community of license. To avoid the loss of the sole local service at Hendersonville, it substitutes Channel 259C0 for Channel 259C at Manchester, Tennessee, reallots Channel 259C0 to Hendersonville, and modifies the license of Station WWTN to specify operation on Channel 259C0 at Hendersonville. As requested in the CXR Holdings, LLC Counterproposal, it substitutes Channel 276C2 for Channel 276A at St. Matthews, Kentucky, reallots Channel 276C2 to Lyndon, Kentucky, and modifies the license of Station WRKA to specify operation on Channel 276C2 at Lyndon. In order to accommodate the Channel 276C2 allotment at Lyndon, it substitutes Channel 275A for Channel 276A at Versailles, Indiana, reallots Channel 275A to Hope, Indiana, and modification of the license of Station WXCH to specify operation on Channel 275A at Hope. To allot Channel 275A to Hope, it substitutes Channel 262A for Channel 275A at Edinburgh, Indiana, and modifies the license of Station WYGB to specify operation on Channel 262A. In order to accommodate the allotment of Channel 276C2 to Lyndon, it substitutes Channel 274A for Channel 275C3 at Tell City, Indiana, reallots Channel 274A to Lewisport, Kentucky, and modifies the license of Station WLME to specify operation on Channel 274A at Lewisport. To replace the loss of the sole local service from St. Matthews, it reallots Channel 295B from Louisville, Kentucky, to St. Matthews and modifies the license of Station WVEZ to specify St. Matthews as the community of license. In order to allot Channel 276C2 at Lyndon, it substitutes Channel 289A for Channel 276A at Greensburg, Kentucky, and modifies the license of Station WGRK-FM to specify operation on Channel 289A. The reference coordinates for the Channel 294C3 allotment at Millersville, Tennessee, are 36-26-24 and 86-37-39. The reference coordinates for the Channel 293A allotment at Horse Cave, Kentucky, are 37-13-57 and 85-52-06. The reference coordinates for the Channel 297A allotment at Hodgenville, Kentucky, are 37-40-34 and 85-40-57. The reference coordinates for the Channel 257A allotment at Lebanon Junction, Kentucky, are 37-44-37 and 85-38-52. The reference coordinates for the Channel 246C2 allotment at Belle Meade, Tennessee, are 37-17-50 and 86-45-11. The reference coordinates for the Channel 221A allotment at Goodlettsville, Tennessee, are 37-17-50 and 86-45-11. The reference coordinates for the Channel 259C0 allotment at Hendersonville, Tennessee, are 35-49-03 and 86-31-24. The reference coordinates for the Channel 276C2 allotment at Lyndon, Kentucky, are 38-23-57 and 85-36-56. The reference coordinates for the Channel 275A allotment at Hope, Indiana, are 39-19-29 and 85-53-41. The reference coordinates for the Channel 262A allotment at Edinburgh, Indiana, are 39-15-37 and 86-06-21. The reference coordinates for the Channel 274A allotment at Lewisport, Kentucky, are 37-47-44 and 86-50-58. The reference coordinates for the Channel 295B allotment at St. Matthews, Kentucky, are 38-22-19 and 85-49-33. The reference coordinates for the Channel 289A allotment at Greensburg, Kentucky, are 37-14-09 and 85-27-56. With this action, the proceeding is terminated.

DATES: Effective November 27, 2006.

FOR FURTHER INFORMATION CONTACT: Robert Hayne, Media Bureau (202) 418-2177.

SUPPLEMENTARY INFORMATION: This is a synopsis of the Report and Order in MB Docket No. 06-77, adopted October 11, 2006, and released October 13, 2006. The full text of this decision is available for inspection and copying during normal business hours in the FCC Reference Information Center at Portals ll, CY-A257, 445 12th Street, SW., Washington, D.C. 20554. The complete text of this decision may also be purchased from the Commission's copy contractor, Best Copying and Printing, Inc. 445 12th Street, SW., Room CY-B402, Washington, DC 20554, telephone 1-800-378-3160 or http://www.BCPIWEB.com. The Commission will send a copy of this Report and Order in a report to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Indiana, is amended by removing Channel 275A and by adding Channel 262A at Edinburgh, by adding Hope, Channel 275A, by removing Tell City, Channel 275C3, and by removing Versailles, Channel 276A.

3. Section 73.202(b), the Table of FM Allotments under Kentucky, is amended by removing Channel 276A and by adding Channel 289A at Greensburg, by removing Channel 292A and by adding Channel 297A at Hodgenville, by removing Channel 294A and by adding Channel 293A at Horse Cave, by removing Channel 297A and by adding Channel 257A at Lebanon Junction, by adding Lewisport, Channel 274A, by removing Channel 295B at Louisville, by adding Lyndon, Channel 276C2, by removing Channel 276A and by adding Channel 295B at St. Matthews.

4. Section 73.202(b), the Table of FM Allotments under Tennessee, is amended by removing Channel 294A and by adding Channel 246C2 at Belle Meade, by removing Channel 246C2 and by adding Channel 221A at Goodlettsville, by removing Channel 221A and by adding Channel 259C0 at Hendersonville, and by removing Manchester, Channel 259C and by adding Millersville, Channel 294C3.

Federal Communications Commission.
John A. Karousos,
Assistant Chief, Audio Division, Media Bureau.

[FR Doc. E6-18404 Filed 10-31-06; 8:45 am]

BILLING CODE 6712-01-P